DEPARTMENT OF HOMELAND SECURITY

Office of the Chief Information Officer; Proposed Collection; Comment Request

ACTION: Notice and request for comments.

SUMMARY: The Department of Homeland Security (DHS), as part of its continuing effort to reduce paperwork and respondent burden, invites the general public and other Federal agencies to take this opportunity to comment on proposed and/or continuing information collections, as required by the Paperwork Reduction Act of 1995, Public Law 104-13 (44 U.S.C. 3506(c)(2)(A)). The Office of the Chief Procurement Officer is soliciting comments concerning five proposed new collections. In compliance with the Paperwork Reduction Act of 1995 (44 U.S.C. 3501 et seq.), this notice announces five information collection requests. Before submitting the package to the Office of Management and Budget (OMB), the Department of Homeland Security is soliciting comments on specific aspects of the collection as described below. The ICR describes the nature of the information collection and its expected cost and burden.

Comments are invited on: Whether the proposed collections of information are necessary for the proper performance of the functions of the Department, including whether the information will have practical utility; the accuracy of the Department's estimate of the burden of the proposed information collections; ways to enhance the quality, utility and clarity of the information to be collected; and ways to minimize the burden of the collection of information on respondents, including the use of automated collection techniques or other forms of information technology. All responses to this notice will be summarized and included in the request for OMB approval.

DATES: Comments must be submitted on or before January 20, 2004.

ADDRESSES: Submit written comments identified by the DHS form numbers, by email to acquisition@dhs.gov or by mail to the Department of Homeland Security, (OCPO, Acquisition Policy & Oversight), Attn: Angelie Jackson, 2456 Murray Drive, Bldg. 410(RDS), Washington, DC 20528. Comments should also be submitted to the Office of Information and Regulatory Affairs, OMB, Attention: Desk Officer for the Department of Homeland Security.

FOR FURTHER INFORMATION CONTACT: Requests for additional information or copies of the form(s) should be directed to the Department of Homeland Security, Office of the Chief Procurement Officer, Acquisition Policy and Oversight, Attn: Angelie Jackson, 245 Murray Drive, Bldg. 410 (RDS), Washington, DC 20528; (202) 692-4211. Direct e-mail to acquisition@dhs.gov, and reference the relative form number.

SUPPLEMENTARY INFORMATION: Title: Information collection authority under Homeland Security Acquisition Regulation (HSAR). Form(s): DHS Form 0700-01, Cumulative Claim and Reconciliation Statement; DHS Form 0700-02, Contractor's Assignment of Refunds, Rebates, Credits, and other Amounts; DHS Form 0700-03, Contractor's Release; DHS Form 0700-04, Employee Claim for Wage Restitution; and DHS Form 0700-05, Contractor Report of Government Property.

Abstract: The requested approval of the new control number covers the information and collection requirements contained in (HSAR) 48 CFR Chapter 30 including the following forms: DHS Form 0700-01, DHS Form 0700-02, DHS Form 0700-03, DHS Form 0700-04, and DHS Form 0700-05. These forms will be used by contractors and/or contract employees during contract administration.

Annual Estimated Burden: The annual estimated burden is 3,428 hours.

Nature of burden | Total annual paper burden (total respondents × frequency × response time) = burden
* Submit forms to provide the data required by various FAR clauses to facilitate contract closeout:
DHS Form 0700-01 | 493 × 1 × 1 = 493
DHS Form 0700-02 | 493 × 1 × 1= 493
DHS Form 0700-03 | 493 × 1 × 1= 493
* Submit claim form for non-payment of wages. Information needed to seek restitution, via the General Accounting Office for contractor employees:
DHS Form 0700-04 | 22 × 1 × 1 = 22
* Submit annual reports of Government furnished or contractor acquired property. Ensures the proper use, accountability, and maintenance of Government-owned property:
DHS Form 0700-05 | 624 × 1 × 1 = 624
* Submit report on results of physical inventory of Government property. Ensures all discrepancies in Government owned property are reported:
DHS Form 0700-05 | 624 × 1 × 1 = 624
* Provide the quantity and unit cost of each item of Government property:
DHS Form 0700-05 | 624 × 1 × 1 = 624

The asterisk (*) denotes that the requested information is, in the strictest sense of the word, contract administration data. It is not data of a general nature solicited from the public at large. This information is furnished to the Government by contractors who are being paid to meet all the terms and conditions of the contract.

Current Actions: New Submission.

Type of Review: New collection.

Affected Public: Businesses and individuals seeking and who are currently contracting with the DHS.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Steve Cooper,
Chief Information Officer.

[FR Doc. 03-29052 Filed 11-19-03; 8:45 am]

BILLING CODE 4410-10-P